ENVIRONMENTAL PROTECTION AGENCY

[FRL-9786-6]

Notification of a Public Meeting of the Science Advisory Board Chemical Assessment Advisory Committee

AGENCY: Environmental Protection Agency (EPA).

ACTION: Notice.

SUMMARY: The Environmental Protection Agency (EPA or agency) Science Advisory Board (SAB) Staff Office announces a public meeting of the SAB Chemical Assessment Advisory Committee (CAAC) to receive a briefing about the Integrated Risk Information System (IRIS) program and enhancements to the process for developing IRIS toxicological reviews for chemicals.

DATES: The SAB CAAC meeting dates are Tuesday April 2, 2013 from 9 a.m. to 5:00 p.m. (Eastern Time) and Wednesday April 3, 2013 from 8:30 a.m. to 1:00 p.m. (Eastern Time).

ADDRESSES: The meeting will be held at the Washington Marriott Hotel, 1221 22nd Street, Washington, DC 20037.

FOR FURTHER INFORMATION CONTACT: Members of the public who wish to obtain further information regarding this announcement may contact Dr. Suhair Shallal, Designated Federal Officer (DFO), SAB Staff Office, by telephone/voice mail at (202) 564-2057 or via email at shallal.suhair@epa.gov. General information concerning the EPA SAB can be found at http://www.epa.gov/sab.

SUPPLEMENTARY INFORMATION: Background: The SAB was established pursuant to the Environmental Research, Development, and Demonstration Authorization Act (ERDDAA) codified at 42 U.S.C. 4365, to provide independent scientific and technical peer review, advice, consultation and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Chemical Assessment Advisory Committee (CAAC) will hold a public meeting to learn about the EPA's Office of Research and Development (ORD) Integrated Risk Information System (IRIS) program and the development of toxicological reviews for chemicals. The SAB committee will comply with the provisions of FACA and all appropriate SAB Staff Office procedural policies.

EPA's ORD has requested that the SAB conduct peer reviews of selected IRIS chemical toxicological reviews. The SAB CAAC will be augmented, as needed, with additional subject matter experts to provide advice regarding IRIS toxicological reviews through the chartered SAB. Prior to the beginning of their peer review activities, the CAAC is meeting to learn more about the IRIS program and the process for developing IRIS toxicological reviews for chemicals. The SAB Staff Office previously requested public nominations of experts to serve on the SAB committee in two Federal Register notices published on November 18, 2011 and August 29, 2012 (76 FR 223 pp. 71561-62; 77 FR 168 pp. 52330-31, respectively). Information about the formation of this SAB committee can be found on the SAB Web site at http://yosemite.epa.gov/sab/sabproduct.nsf/WebAll/nominationcommittee?OpenDocument.

Availability of the review materials: Information about this public meeting will be available on the SAB Web site (http://www.epa.gov/sab) prior to the meeting. Meeting materials can be accessed by using the “calendar” link in the blue navigation sidebar and then clicking on the date corresponding to the meeting date.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the committee's charge, meeting materials and/or the group conducting the activity. Input from the public to the SAB will have the most impact if it consists of comments that provide specific scientific or technical information or analysis for the SAB committee to consider or if it relates to the clarity or accuracy of the technical information. Members of the public wishing to provide comment should contact the Designated Federal Officer for the relevant advisory committee directly.

Oral Statements: In general, individuals or groups requesting an oral presentation will be limited to five minutes per speaker. Interested parties should contact Dr. Suhair Shallal, DFO, in writing (preferably via email), at the contact information noted above, by March 25, 2013 to be placed on the list of public speakers for the meeting.

Written Statements: Written statements should be received in the SAB Staff Office by March 25, 2013 so that the information may be made available to the SAB Committee for consideration. Written statements should be supplied to the DFO in electronic format via email (acceptable file formats: Adobe Acrobat PDF, WordPerfect, MS Word, MS PowerPoint, or Rich Text files in IBM-PC/Windows 98/2000/XP format). It is the SAB Staff Office general policy to post written comments on the web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Suhair Shallal at the phone number or email address noted above, preferably at least ten days prior to the meeting, to give EPA as much time as possible to process your request.

Dated: February 21, 2013.
Thomas H. Brennan,
Deputy Director, EPA Science Advisory Board Staff Office.

[FR Doc. 2013-05106 Filed 3-4-13; 8:45 am]

BILLING CODE 6560-50-P